DEPARTMENT OF TRANSPORTATION

Coast Guard

33 CFR Part 117

[CGD 08-02-033]

RIN 2115-AE47

Drawbridge Operating Regulation; Mississippi River, Iowa and Illinois

AGENCY: Coast Guard, DOT.

ACTION: Notice of temporary deviation from regulations.

SUMMARY: The Commander, Eighth Coast Guard District has issued a temporary deviation from the regulation governing the Rock Island Railroad & Highway Drawbridge, Mile 482.9, Upper Mississippi River at Rock Island, Illinois. This deviation allows the drawbridge to remain closed to navigation for 57 days starting at 8 a.m., December 28, 2002, and ending at 8 a.m., February 22, 2003, Central Standard Time. This deviation is necessary to allow the bridge owner time for preventive maintenance that is essential to the continued safe operation of the drawbridge.

DATES: This temporary deviation is effective from 8 a.m., December 28, 2002 until 8 a.m., February 22, 2003.

ADDRESSES: Materials referred to in this notice are available for inspection or copying at the office of the Eighth Coast Guard District, Bridge Administration Branch, Commander (obr), Eighth Coast Guard District, 1222 Spruce Street, St. Louis, MO 63103-2832, between 8 a.m. and 4 p.m., Monday through Friday, except on Federal holidays. The Bridge Administration Branch maintains the public docket for this temporary deviation.

FOR FURTHER INFORMATION CONTACT: Roger K. Wiebusch, Bridge Administrator, Commander (obr), Eighth Coast Guard District, 1222 Spruce Street, St. Louis, MO 63103-2832, (314) 539-3900, extension 2378.

SUPPLEMENTARY INFORMATION: The Department of the Army, Rock Island Arsenal requested a temporary deviation on October 1, 2002 for the operation of the drawbridge to allow the bridge owner time for preventive maintenance. The drawbridge operation regulations found at 33 CFR 117.5, require the drawbridge to open on signal. In order to perform extensive repairs and required annual maintenance, the bridge must be kept inoperative and in the closed to navigation position. This deviation allows the bridge to remain closed to navigation for 57 days starting at 8 a.m., December 28, 2002 and ending at 8 a.m., February 22, 2003. This maintenance period was scheduled during the winter months to lessen the impact on vessel traffic which will increase when Lock 17 reopens on March 1, 2003.

The Rock Island Railroad & Highway Drawbridge provides a vertical clearance of 23.8 feet above normal pool in the closed to navigation position. Navigation on the waterway consists primarily of commercial tows and recreational watercraft. The drawbridge will not be able to open for emergencies during the repair period. This deviation has been coordinated with waterway users. No objections were received.

In accordance with 33 CFR 117.35(c), this work will be performed with all due speed in order to return the bridge to normal operation as soon as possible. This deviation from the operating regulations is authorized under 33 CFR 117.35.

Dated: November 14, 2002.
Roger K. Wiebusch,
Bridge Administrator.

[FR Doc. 02-30323 Filed 11-22-02; 8:45 am]

BILLING CODE 4910-15-P